DEPARTMENT OF COMMERCE

Foreign-Trade Zones Board

[B-79-2014]

Foreign-Trade Zone (FTZ) 21—Charleston, South Carolina; Notification of Proposed Export Production Activity; Crescent Dairy and Beverages (Milk-Based Infant Formula and Fluid Milk Beverages); Walterboro, South Carolina

The South Carolina State Ports Authority, grantee of FTZ 21, submitted a notification of proposed export production activity to the FTZ Board on behalf of Crescent Dairy and Beverage (CDB), located in Walterboro, South Carolina. The notification conforming to the requirements of the regulations of the FTZ Board (15 CFR 400.22) was received on November 3, 2014.

The CDB facility is located within Site 26 of FTZ 21. The activity at the facility would involve the production of milk-based infant formula, reconstituted fluid milk, and fluid milk beverages for export (no shipments for U.S. consumption would occur). Pursuant to 15 CFR 400.14(b), FTZ activity would be limited to the specific foreign-status materials and components and specific finished products described in the submitted notification (as described below) and subsequently authorized by the FTZ Board.

Production under FTZ procedures could exempt CDB from customs duty payments on the foreign status materials used in export production. The foreign-origin materials to be used in the export production are whole milk powder (duty rate: 68¢/kg), nonfat dry (powdered) milk (33¢/kg), and powdered milk protein concentrate (37¢/kg). Customs duties also could possibly be deferred or reduced on foreign status production equipment or the foreign materials scrapped or destroyed under U.S. Customs and Border Protection procedures.

Public comment is invited from interested parties. Submissions shall be addressed to the FTZ Board's Executive Secretary at the address below. The closing period for their receipt is December 17, 2014.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: November 3, 2014.
Elizabeth Whiteman,
Acting Executive Secretary.

[FR Doc. 2014-26514 Filed 11-6-14; 8:45 am]

BILLING CODE 3510-DS-P